FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011275-038.

Title: Australia and New Zealand-United States Discussion Agreement.

Parties: CMA CGM, S.A. and ANL Singapore Pte Ltd. (acting as a single party); Hamburg-Süd KG; Hapag-Lloyd AG; and MSC Mediterranean Shipping Company S.A.

Filing Party: Wayne R. Rohde, Esq.; Cozen O'Connor LLP; 1200 Nineteenth St. NW.; Washington, DC 20036.

Synopsis: The Amendment would revise the notice required to resign from the agreement, and revise the minimum level of service to be provided by the agreement.

Agreement No.: 011953-013.

Title: Florida Shipowners Group Agreement.

Parties: The member lines of the Caribbean Shipowners Association and the Florida-Bahamas Shipowners and Operators Association.

Filing Party: Wayne Rohde, Esq.; Cozen O'Connor; 1200 Nineteenth Street NW.; Washington, DC 20036.

Synopsis: The amendment updates Appendix A to update the membership of the Caribbean Shipowners Association.

Agreement No.: 012282-001.

Title: Kyowa Shipping Co., Ltd. and Nippon Yusen Kaisha Space Charter Agreement.

Parties: Kyowa Shipping Co., Ltd. and Nippon Yusen Kaisha.

Filing Party: Kristen Chung, Corporate Counsel, NYK Line (North America) Inc.; 300 Lighting Way, 5th Floor; Secaucus, NJ 07094.

Synopsis: The amendment adds the trade between American Samoa and Japan to the geographic scope of the agreement.

Agreement No.: 012399.

Title: NYK/Zim Slot Exchange Agreement.

Parties: Nippon Yusen Kaisha and Zim Integrated Shipping Services Co., Ltd.

Filing Party: Mark E. Newcomb; ZIM American Integrated Shipping Services, Co. LLC; 5801 Lake Wright Dr.; Norfolk, VA 23508.

Synopsis: The agreement authorizes the parties to charter slots on each other's vessels in the trade between the U.S. on the one hand, and China, Vietnam, Singapore, Malaysia, Thailand, Sri Lanka, Egypt, Italy, United Arab Emirates, and Canada on the other hand.

By Order of the Federal Maritime Commission.
Dated: April 15, 2016.
Karen V. Gregory,
Secretary.

[FR Doc. 2016-09146 Filed 4-19-16; 8:45 am]

BILLING CODE 6731-AA-P